DEPARTMENT OF HEALTH AND HUMAN SERVICES

Substance Abuse and Mental Health Services Administration

Meeting of the Substance Abuse and Mental Health Services Administration National Advisory Council; Correction

AGENCY: Substance Abuse and Mental Health Services Administration, HHS.

ACTION: Notice; correction.

SUMMARY: The Substance Abuse and Mental Health Services Administration published a document in the Federal Register of March 24, 2023, announcing the meeting of the SAMHSA National Advisory Council of April 27, 2023. The document contained incorrect date in the “Dates” section.

FOR FURTHER INFORMATION CONTACT: Carlos Castillo, carlos.castillo@samhsa.hhs.gov. Telephone number (240) 276-2787.

SUPPLEMENTARY INFORMATION:

Correction

In the Federal Register of March 24, 2023, in FR Doc. 2023-06153, on page 17863, in the second column, correct the “Dates” caption to read:

DATES: April 27, 2023, 10:00 a.m. to approximately 3:15 p.m. EDT, Open.

Dated: March 29, 2023.
Carlos Castillo,
Committee Management Officer.

[FR Doc. 2023-06872 Filed 4-3-23; 8:45 am]

BILLING CODE 4162-20-P